DEPARTMENT OF ENERGY

Federal Energy Regulatory Commission

[Docket No. EL19-88-000]

New York Power Authority; Notice of Petition for Declaratory Order

Take notice that on August 12, 2019, pursuant to section 219 of the Federal Power Act,¹ Rule 207 of the Federal Energy Regulatory Commission's (Commission) Rules of Practice and Procedure, 18 CFR 385.207(a)(2) (2018), Order No. 679,² and the Commission's November 15, 2012 policy statement on transmission incentives,³ the New York Power Authority (NYPA or Petitioner), filed a petition for declaratory order seeking incentive rate treatments for NYPA's investment in competitively selected New York Independent System Operator, Inc. transmission projects needed to relieve severe and chronic congestion between upstate and downstate New York (AC Transmission Needs Projects or AC Projects), as more fully explained in the petition.

¹ 16 U.S.C. 824s (2012).

² Promoting Transmission Investment through Pricing Reform, Order No. 679, 71 FR 43,294 (July 31, 2006) FERC Stats. & Regs. 31,222 (2006) (Order No. 679), order on reh'g, Order No. 679-A, 72 FR 1152 (Jan. 10, 2007), FERC Stats & Regs. 31,236 (2006) (“Order No. 679-A”), reh'g denied, 119 FERC ¶ 61,062 (2007).

³ Promoting Transmission Investment through Pricing Reform, 141 FERC ¶ 61,129 (2012) (Incentives Policy Statement).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Dated: August 13, 2019.
Kimberly D. Bose,
Secretary.

[FR Doc. 2019-17730 Filed 8-16-19; 8:45 am]

BILLING CODE 6717-01-P